DEPARTMENT OF VETERANS AFFAIRS

Special Medical Advisory Group, Notice of Availability of Annual Report

Under Section 10(d) of Public Law 92-463 (Federal Advisory Committee Act), notice is hereby given that the Annual Report of the Department of Veterans Affairs Special Medical Advisory Group for Fiscal Year 1999 has been issued.

The report summarizes activities of the Group relative to the care and treatment of disabled veterans and other matters pertinent to the Department of Veterans Affairs, Veterans Health Administration. It is available for public inspection at two locations:

Federal Documents Section, Exchange and Gift Division, LM 632, Library of Congress, Washington, D.C. 20540

and

Department of Veterans Affairs, Office of the Under Secretary for Health, VA Central Office, Room 805, 810 Vermont Avenue, N.W., Washington, D.C. 20420

Dated: April 3, 2000.
By Direction of the Secretary.
Marvin R. Eason,
Committee Management Officer.

[FR Doc. 00-9857 Filed 4-19-00; 8:45 am]

BILLING CODE 8320-01-M